DEPARTMENT OF TRANSPORTATION

Research and Special Programs Administration

[Docket No. RSPA-2000-6944 (Notice No. 00-12)]

Reports, Forms and Recordkeeping Requirements Agency Information Collection Activity Under OMB Review

AGENCY: Research and Special Programs Administration (RSPA), DOT.

ACTION: Notice and request for comments

SUMMARY: In compliance with the Paperwork Reduction Act of 1995 (44 U.S.C. 3501 et seq.), this notice announces that the Information Collections Requests (ICRs) abstracted below have been forwarded to the Office of Management and Budget (OMB) for review and comments. The ICRs describe the nature of the information collections and their expected burden. The Federal Register Notice with a 60-day comment period soliciting comments on the following collections of information was published on August 21, 2000, (65 FR 50741). One comment was received regarding OMB Control No. 2137-0034, Hazardous Materials Shipping Papers & Emergency Response Information.

DATES: Comments must be submitted on or before December 13, 2000.

FOR FURTHER INFORMATION CONTACT: Deborah Boothe, Office of Hazardous Materials Standards (DHM-10), Research and Special Programs Administration, Room 8422, 400 Seventh Street, SW, Washington, DC 20590-0001, Telephone (202) 366-8553.

SUPPLEMENTARY INFORMATION: Title: Hazardous Materials Shipping Papers & Emergency Response Information.

OMB Control Number: 2137-0034.

Type of Request: Extension of a currently approved collection.

Abstract: This information collection consolidates and describes the information collection provisions in parts 172, 174, 175, 176, and 177 of the HMR on the shipping paper and emergency response requirements for the transportation of hazardous materials in commerce. Shipping papers and emergency response information are a basic communication tool used in the safe transportation of hazardous materials. They serve as a principal means of identifying hazardous materials during transportation, including emergencies, by providing the proper shipping name, hazard class, UN or NA identification number, packing group and quantity of each hazardous material being transported. Shipping papers also provide emergency response information for use in the mitigation of an incident, and an emergency response telephone number for use in the event of an emergency. The telephone number must be monitored at all times the hazardous material is in transportation, by a person who is either knowledgeable of the hazardous material being shipped and has comprehensive emergency response and incident mitigation information for that material, or has immediate access to a person who posses such knowledge and information. Shipping papers also serve as a means of notifying transport workers that hazardous materials are present, so that the proper loading, unloading, handling and safety procedures may be followed.

One comment was received from the Hazardous Materials Advisory Council (HMAC) requesting clarification on the basis of the 6,500,000 burden hours for the preparation of shipping papers. HMAC cited a recent RSPA study completed in August 1998 that estimated there are 800,000 daily shipments of hazardous materials in commerce, most requiring the preparation of shipping papers. According to the August 1998 RSPA study, shipments are defined as equivalent to deliveries, and in most instances may be distinguished from the number of movements, trip segments, or other measures. The estimated number of movements associated with these shipments exceeds 1.2 million per day. Because most of the 800,000 daily shipments are accomplished with one shipping paper and some require multiple shipping papers, RSPA has estimated the annual number of shipments for shipping paper calculation purposes to be approximately 1 million shipments per day. The information collection estimates used by RSPA average out to 1 million/day x 5 days/week x 52 weeks or 260 million shipments per year. These estimates are averages based on the average time it takes all shippers to complete shipping paper. This includes shippers who prepare shipping papers once a year manually, as well as those shippers who ship hundreds of material daily using a permanent reusable shipping paper, and shippers who use computer generated shipping papers that can be printed out in seconds. RSPA acknowledges that it may take more than 1 minute 30 seconds to prepare a number of shipping papers. However, other shipping papers can be prepared more quickly by using data programs, especially for shippers who continually ship the same hazardous materials.

Affected Public: Shippers and carriers of hazardous materials in intrastate, interstate, and foreign commerce.

Estimated Number of Respondents: 250,000.

Estimated Number of Responses: 260,000,000.

Annual Estimated Burden Hours: 6,500,000.

Frequency of Collection: Annually.

Title: Radioactive (RAM) Transportation Requirements.

OMB Control Number: 2137-0510.

Type of Request: Extension of a currently approved collection.

Abstract: This information collection consolidates and describes the information collection provisions in the HMR (49 CFR parts 171-180) involving the transportation of radioactive materials in commerce. Information collection requirements for RAM include: shipper notification to consignees of the dates of shipment of RAM; expected arrival; special loading/unloading instructions; verification that shippers using foreign-made packages hold a foreign competent authority certificate and verification that the terms of the certificate are being followed for RAM shipments being made into this country; and specific handling instructions from shippers to carriers for fissile RAM, bulk shipments of low specific activity RAM and packages of RAM which emit high levels of external radiation. These information collection requirements help to establish that proper packages are used for the type of radioactive material being transported; external radiation levels do not exceed prescribed limits; packages are handled appropriately and delivered in a timely manner, so as to ensure the safety of the general public, transport workers, and emergency responders.

Affected Public: Shippers and carriers of radioactive materials in commerce.

Estimated Number of Respondents: 3,807.

Estimated Number of Responses: 21,319.

Annual Estimated Burden Hours: 14,480.

Frequency of Collection: Periodically.

ADDRESSES: Send comments regarding the burden estimate, including suggestions for reducing the burden, to Office of Management and Budget, Attention: Desk Officer for RSPA, 725 17th Street, NW., Washington, DC 20503.

Comments are invited on: whether the proposed collection of information is necessary for the proper performance of the functions of the Department, including whether the information will have practical utility; the accuracy of the Department's estimate of the burden of the proposed information collection; ways to enhance the quality, utility and clarity of the information to be collected; and ways to minimize the burden of the collection of information on respondents, including the use of automated collection techniques or other forms of information technology.

A comment to OMB is most effective if OMB receives it within 30 days of publication.

Issued in Washington, DC on November 7, 2000.
Edward T. Mazzullo,
Director, Office of Hazardous Materials Standards.

[FR Doc. 00-28986 Filed 11-9-00; 8:45 am]

BILLING CODE 4910-60-P